DEPARTMENT OF TRANSPORTATION

Federal Aviation Administration

14 CFR Part 39

[Docket No. FAA-2017-0554; Product Identifier 2016-NM-201-AD; Amendment 39-19370; AD 2018-17-16]

RIN 2120-AA64

Airworthiness Directives; Airbus SAS Airplanes

AGENCY: Federal Aviation Administration (FAA), Department of Transportation (DOT).

ACTION: Final rule.

SUMMARY: We are adopting a new airworthiness directive (AD) for all Airbus SAS Model A300 series airplanes; Model A300 B4-600, B4-600R, and F4-600R series airplanes, and Model A300 C4-605R Variant F airplanes (collectively called Model A300-600 series airplanes); and Model A310 series airplanes. This AD was prompted by a static analysis performed by Airbus SAS that revealed some areas of the wing structure cannot sustain the damage limits previously published in certain structural repair manuals. This AD requires an inspection to determine whether repair or damage to certain wing areas is beyond the allowable limits; and repair if necessary. We are issuing this AD to address the unsafe condition on these products.

DATES: This AD is effective October 2, 2018.

The Director of the Federal Register approved the incorporation by reference of certain publication listed in this AD as of October 2, 2018.

ADDRESSES: For service information identified in this final rule, contact Airbus SAS, Airworthiness Office—EAW, Rond-Point Emile Dewoitine No: 2, 31700 Blagnac Cedex, France; telephone +33 5 61 93 36 96; fax +33 5 61 93 44 51; email account.airworth-eas@airbus.com; internet http://www.airbus.com. You may view this service information at the FAA, Transport Standards Branch, 2200 South 216th St., Des Moines, WA. For information on the availability of this material at the FAA, call 206-231-3195. It is also available on the internet at http://www.regulations.gov by searching for and locating Docket No. FAA-2017-0554.

Examining the AD Docket

You may examine the AD docket on the internet at http://www.regulations.gov by searching for and locating Docket No. FAA-2017-0554; or in person at Docket Operations between 9 a.m. and 5 p.m., Monday through Friday, except Federal holidays. The AD docket contains this final rule, the regulatory evaluation, any comments received, and other information. The address for Docket Operations (phone: 800-647-5527) is Docket Operations, U.S. Department of Transportation, Docket Operations, M-30, West Building Ground Floor, Room W12-140, 1200 New Jersey Avenue SE, Washington, DC 20590.

FOR FURTHER INFORMATION CONTACT: Dan Rodina, Aerospace Engineer, International Section, Transport Standards Branch, FAA, 2200 South 216th St., Des Moines, WA 98198; telephone and fax 206-231-3225.

SUPPLEMENTARY INFORMATION:

Discussion

We issued a notice of proposed rulemaking (NPRM) to amend 14 CFR part 39 by adding an AD that would apply to all Airbus SAS Model A300 series airplanes; Model A300 B4-600, B4-600R, and F4-600R series airplanes, and Model A300 C4-605R Variant F airplanes (collectively called Model A300-600 series airplanes); and Model A310 series airplanes. The NPRM published in the Federal Register on June 12, 2017 (82 FR 26869).

We are issuing this AD to address any repair or damage on the wing structure that is outside the allowable structural limits. Such conditions could reduce the structural integrity of the wings and could result in loss of control of the airplane.

The European Aviation Safety Agency (EASA), which is the Technical Agent for the Member States of the European Union, has issued EASA AD 2016-0229, dated November 15, 2016 (referred to after this as the Mandatory Continuing Airworthiness Information, or “the MCAI”), to correct an unsafe condition for all Airbus SAS Model A300 series airplanes; Model A300 B4-600, B4-600R, and F4-600R series airplanes, and Model A300 C4-605R Variant F airplanes (collectively called Model A300-600 series airplanes); and Model A310 series airplanes. The MCAI states:

A static analysis performed by Airbus on A300, A310, A300-600, and A300-600ST aeroplanes, revealed that some areas of the wing structure cannot sustain the damage previously published in the A300, A310, A300-600, and A300-600ST Structural Repair Manuals (SRM).

The SRMs were therefore amended to reduce the dimensions of allowable damage and to indicate the areas of the wing structure where damage is no longer acceptable.

This condition, if not detected, could reduce the structural integrity of the wings.

Consequently, Airbus issued Service Bulletins (SB) A300-57-0256, A310-57-2102, A300-57-6114, and A300-57-9027 (hereafter referred to as “the applicable Airbus SB”), as applicable for A300, A310, A300-600, and A300-600ST aeroplanes, to inspect the areas identified in these SBs and determine if the repair(s) or damage(s) found stay within the limits indicated in the latest SRM issue (including temporary revisions).

For the reason described above, this [EASA] AD requires accomplishment of an inspection of the aeroplane records. If aeroplane records are missing or incomplete, a Detail Inspection (DET) of specific wing areas is required to ensure that no repair or damage is beyond the limits allowed in the current revision of the SRM (including temporary revisions) [and repair if necessary].

You may examine the MCAI in the AD docket on the internet at http://www.regulations.gov by searching for and locating Docket No. FAA-2017-0554.

Comments

We gave the public the opportunity to participate in developing this final rule. The following presents the comments received on the NPRM and the FAA's response to each comment. FedEx stated that it supported the NPRM.

Request To Delay the Issuance Pending New Service Information

Airbus and United Parcel Service (UPS) requested that we delay issuance of the final rule until new service information is released. Airbus stated that a configuration issue and an allowable damage limit issue has been identified for certain freighter manufacturer serial numbers, as specified in Airbus Service Bulletin A300-57-6114, Revision 00, dated August 3, 2015. Airbus also stated that it intends to update the service information.

UPS stated that certain configurations specified in Airbus Service Bulletin A300-57-6114, Revision 00, dated August 3, 2015, do not meet the intent of the proposed AD because airplanes with a freighter configuration have an additional inspection of the wing lower skin between ribs 26 and 27. UPS also stated that the allowable damage limitations are inconsistent between Airbus Service Bulletin A300-57-6114, Revision 00, dated August 3, 2015, and applicable SRM references.

We agree with the commenters' request. Since the NPRM has been issued, Airbus SAS has issued Service Bulletin A300-57-6114, Revision 01, dated June 19, 2018, and has updated the applicable SRMs referenced in the service information. Airbus Service Bulletin A300-57-6114, Revision 01, dated June 19, 2018, does not contain substantive changes. Therefore, we have revised paragraph (i)(2) of this AD to refer to Airbus Service Bulletin A300-57-6114, Revision 01, dated June 19, 2018. We have also added paragraph (j) of this AD to give credit for actions in paragraph (g) of this AD completed before the effective date of this AD using Airbus Service Bulletin A300-57-6114, Revision 00, dated August 3, 2015. We redesignated subsequent paragraphs accordingly.

Conclusion

We reviewed the relevant data, considered the comments received, and determined that air safety and the public interest require adopting this final rule with the changes described previously and minor editorial changes. We have determined that these minor changes:

• Are consistent with the intent that was proposed in the NPRM for addressing the unsafe condition; and

• Do not add any additional burden upon the public than was already proposed in the NPRM.

We also determined that these changes will not increase the economic burden on any operator or increase the scope of this final rule.

Related Service Information Under 1 CFR Part 51

We reviewed the following Airbus SAS Service Information.

• Airbus Service Bulletin A300-57-0256, Revision 00, dated August 3, 2015 (Airbus Model A300 series airplanes).

• Airbus Service Bulletin A300-57-6114, Revision 01, dated June 19, 2018 (for Model A300 B4-600, B4-600R, and F4-600R series airplanes, and Model A300 C4-605R Variant F airplanes (collectively called Model A300-600 series airplanes)).

• Airbus Service Bulletin A310-57-2102, Revision 00, dated August 3, 2015 (for Model A310 series airplanes).

This service information describes a review of the airplane maintenance records and a detailed inspection of the left-hand and right-hand wing areas to determine whether any repair or damage is beyond the allowable limits in the current revision of the SRM, and repair if necessary. These documents are distinct since they apply to different airplane models in different configurations. This service information is reasonably available because the interested parties have access to it through their normal course of business or by the means identified in the ADDRESSES section.

Costs of Compliance

We estimate that this AD affects 128 airplanes of U.S. registry.

We estimate the following costs to comply with this AD:

Estimated Costs
Action | Labor cost | Parts cost | Cost per product | Cost on U.S. operators
Inspection | Up to 18 work-hours × $85 per hour = $1,530 | $0 | Up to $1,530 | Up to $195,840.

We have received no definitive data that would enable us to provide cost estimates for the on-condition actions specified in this AD.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2018-17-16 Airbus SAS: Amendment 39-19370; Docket No. FAA-2017-0554; Product Identifier 2016-NM-201-AD.

(a) Effective Date

This AD is effective October 2, 2018.

(b) Affected ADs

None.

(c) Applicability

This AD applies to Airbus SAS Model A300 B2-1A, B2-1C, B2K-3C, B2-203, B4-2C, B4-103, and B4-203 airplanes; Model A300 B4-600, B4-600R, and F4-600R series airplanes, and Model A300 C4-605R Variant F airplanes (collectively called Model A300-600 series airplanes); and Model A310-203, -204, -221, -222, -304, -322, -324, and -325 airplanes; certificated in any category, all manufacturer serial numbers.

(d) Subject

Air Transport Association (ATA) of America Code 57, Wings.

(e) Reason

This AD was prompted by a static analysis performed by Airbus SAS that revealed that some areas of the wing structure cannot sustain the damage limits previously published in the Airbus A300, A310, A300-600, and A300-600ST Structural Repair Manuals. We are issuing this AD to detect and correct any repair or damage on the wing structure that is outside the allowable structural limits. Such conditions could reduce the structural integrity of the wings and could result in loss of control of the airplane.

(f) Compliance

Comply with this AD within the compliance times specified, unless already done.

(g) Inspection

Within 36 months after the effective date of this AD: Do a detailed inspection of the left-hand and right-hand wing areas to determine whether any repair or damage exceeds the allowable structural limits, in accordance with the Accomplishment Instructions of the applicable service information specified in paragraph (i) of this AD. A review of airplane maintenance records is acceptable in lieu of this inspection if it can be positively determined from that review whether any repair or damage exceeds the allowable structural limits and the airplane configuration can be conclusively determined from that review.

(h) Corrective Action

If, during any review or inspection, as required by paragraph (g) of this AD, any repair or damage is found that is outside the allowable structural limits specified in the applicable service information in paragraph (i) of this AD: Within 3 months after accomplishing the review or inspection required by paragraph (g) of this AD, repair using a method approved by the Manager, International Section, Transport Standards Branch, FAA; or the European Aviation Safety Agency (EASA); or Airbus SAS's EASA Design Organization Approval (DOA). If approved by the DOA, the approval must include the DOA-authorized signature.

(i) Service Information for the Actions Specified in Paragraph (g) of This AD

Use the applicable service information for the actions specified in paragraph (g) of this AD.

(1) Airbus Service Bulletin A300-57-0256, Revision 00, dated August 3, 2015 (for Airbus Model A300 series airplanes).

(2) Airbus Service Bulletin A300-57-6114, Revision 01, dated June 19, 2018 (for Model A300 B4-600, B4-600R, and F4-600R series airplanes, and Model A300 C4-605R Variant F airplanes (collectively called Model A300-600 series airplanes)).

(3) Airbus Service Bulletin A310-57-2102, Revision 00, dated August 3, 2015 (for Model A310 series airplanes).

(j) Credit for Previous Actions

This paragraph provides credit for actions required by paragraph (g) of this AD, if those actions were performed before the effective date of this AD using Airbus Service Bulletin A300-57-6114, Revision 00, dated August 3, 2015.

(k) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the manager of the International Section, send it to the attention of the person identified in paragraph (l)(2) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Section, Transport Standards Branch, FAA; or EASA; or Airbus SAS's EASA DOA. If approved by the DOA, the approval must include the DOA-authorized signature.

(3) Required for Compliance (RC): If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(l) Related Information

(1) Refer to Mandatory Continuing Airworthiness Information (MCAI) EASA AD 2016-0229, dated November 15, 2016, for related information. This MCAI may be found in the AD docket on the internet at http://www.regulations.gov by searching for and locating Docket No. FAA-2017-0554.

(2) For more information about this AD, contact Dan Rodina, Aerospace Engineer, International Section, Transport Standards Branch, FAA, 2200 South 216th St., Des Moines, WA 98198; telephone and fax 206-231-3225.

(3) Service information identified in this AD that is not incorporated by reference is available at the addresses specified in paragraphs (m)(3) and (m)(4) of this AD.

(m) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Service Bulletin A300-57-0256, Revision 00, dated August 3, 2015.

(ii) Airbus Service Bulletin A300-57-6114, Revision 01, dated June 19, 2018.

(iii) Airbus Service Bulletin A310-57-2102, Revision 00, dated August 3, 2015.

(3) For service information identified in this AD, contact Airbus SAS, Airworthiness Office—EAW, Rond-Point Emile Dewoitine No: 2, 31700 Blagnac Cedex, France; telephone +33 5 61 93 36 96; fax +33 5 61 93 44 51; email account.airworth-eas@airbus.com; internet http://www.airbus.com.

(4) You may view this service information at the FAA, Transport Standards Branch, 2200 South 216th St., Des Moines, WA. For information on the availability of this material at the FAA, call 206-231-3195.

(5) You may view this service information that is incorporated by reference at the National Archives and Records Administration (NARA). For information on the availability of this material at NARA, call 202-741-6030, or go to: http://www.archives.gov/federal-register/cfr/ibr-locations.html.

Issued in Des Moines, Washington, on August 16, 2018.
Michael Kaszycki,
Acting Director, System Oversight Division, Aircraft Certification Service.

[FR Doc. 2018-18272 Filed 8-27-18; 8:45 am]

BILLING CODE 4910-13-P